DEPARTMENT OF DEFENSE

Office of the Secretary

Proposed Collection: Comment Request

AGENCY: Office of the Assistant Secretary of Defense for Reserve Affairs, DoD.

ACTION: Notice.

In Compliance with Section 3506(c)(2)(A) of the Paperwork Reduction Act of 1995, The Office of the Assistant Secretary of Defense (Reserve Affairs)(OASD/RA)), announces the following request of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology. The Information Collection Request (ICR), which is abstracted below, describes the nature of the information collection and its estimated burden.

DATES: Comments regarding this information collection are best assured of having their full effect if received by April 25, 2005.

ADDRESSES: Written comments and recommendations on the proposed information collection should be sent to The Office of the Assistant Secretary of Defense (Reserve Affairs)(OASD/RA), attention: COL James L.Scott, II, Director, Individual and Family Support Policy OASD/RA(M&P) at 1500 Defense Pentagon, Room 2E185, Washington, DC 20301-1500, by electronic mail to James. Scott@osd.mil, or by fax to (703) 695-3659. Please bear in mind that mail delivered to the Pentagon by the United States Postal Service (USPS) can take up to two weeks to pass through security. Therefore, if you prefer to send you comments via mail, we encourage using Express mail, e.g., FedEx, UPS or USPS, at the following address: 1500 Defense Pentagon, Room 2D201, Washington, DC 20301-1500.

FOR FURTHER INFORMATION CONTACT: To request more information on this proposed information collection, or to obtain copies of the proposed collection plans, data collection instruments, and specific details on the estimated burden, please write to the above address, or call COL Scott directly at (703) 693-7487. Comments submitted in response to this notice will be summarized and included in the request for OMB approval of the proposed information collection. All comments will become a matter of public record.

Title and OMB Control Number: Survey to Determine Economic Costs and Impact to Employers of Mobilized Reserve Component Members; OMB Number 0704-TBD.

Needs and Uses: The information collection requirement is necessary to obtain information from employers about the impact on their organizations when Guard or Reserve members are absent more than 30 days to serve in the military. Understanding the economic impact to employers when Guard or Reserve employees are absent from work to serve in the military is critical to gaining and maintaining employer support. The information collection process will be accomplished using a self-administered survey so that employers can accurately provide cost data, some of which may require consultation with record. The primary objectives of collection of information are: (a) To determine the economic impact on employers when Guard or Reserve members are absent from work to serve in the military; (b) to assess the impact on operations; and (c) to identify ways Department of Defense may be able to better support employers. The findings may provide valuable information concerning: (1) The economic impact when Guard or Reserve employees are absent for more than 30 days to serve in the military; (2) the operational impact and actual employer cost to operations when Guard or Reserve employees are absent to serve in the military; (3) the amount of notice received prior to employees leaving; and (4) employer adjustments made to sustain operations when Guard or Reserve members are absent from work to serve in the military.

Affected Public: Businesses or other for-profit; Not-for-profit institutions; State, local, or tribal governments.

Annual Burden Hours: 759 hours.

Number of Respondents: 1938.

Responses Per Respondent: 1.

Average Burden Per Response: 23 minutes.

Frequency: One time.

SUPPLEMENTARY INFORMATION:

Summary of Information Collection

The national survey of employers with Guard or Reserve members who are absent from work for more than 30 days to serve in the military will use a self-administered survey instrument delivered by mail. The survey will focus on the varying economic costs and impacts to employers' operations when Guard or Reserve members are absent to serve in the military. Survey questions are organized into two sections: Operations and Human Resources. Section One will collect information on the impact on operations and Section Two on the economic impact on human resources. Eligible employers will have employed Guard or Reserve members who were absent form work for more than 30 days to serve in the military at any time since 2002. Respondents will be the most knowledgeable person(s) about operations and human resources at each sampled employer. Therefore, it is anticipated that employers with greater than 30 employees may require two people from different departments, while smaller employers may require only one person to accurately respond to both sections.

Dated: February 10, 2005.
Patricia L. Toppings,
Alternate OSD Federal Register Liaison Officer, Department of Defense.

[FR Doc. 05-3230 Filed 2-18-05; 8:45 am]

BILLING CODE 5001-06-M